DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Industrial Reports (Wave III Mandatory & Voluntary Surveys).

Form Number(s): M311H, M311L, M311M, M311N, M336G, MQ313D, MQ313T, MA311D, MA315D, MA327E, MA333D, MA333F, MA333N, MA334P, MA334R and MA335L.

Agency Approval Number: 0607-0476.

Type of Request: Revision of a Currently approved collection.

Burden: 10,274 hours.

Number of Respondents: 5,995.

Avg Hours Per Response: 1.7 hours.

Needs and Uses: The Census Bureau conducts a series of monthly, quarterly, and annual surveys as part of the Current Industrial Reports (CIR) program. The CIR program focuses primarily on the quantity and value of shipments of particular products and occasionally with data on production and inventories; unfilled orders, receipts, stocks and consumption; and comparative data on domestic production, exports, and imports of the products they cover. Primary users of these data are Government agencies, business firms, trade associations, and private research and consulting organizations. The Federal Reserve Board uses CIR data in its monthly index of industrial production as well as its annual revision to the index. The Bureau of Economic Analysis (BEA) and the Bureau of Labor Statistics (BLS) use the CIR data in the estimate of components of gross domestic product (GDP) and the estimate of output for productivity analysis, respectively. Many Government agencies, such as the International Trade Commission, Department of Agriculture, Food and Drug Administration, Department of Energy, Federal Aviation Administration, BEA, and International Trade Administration, use the data for industrial analysis, projections, and monitoring import penetration. Private business firms and organizations use the data for trend projections, market analysis, product planning, and other economic and business-oriented analysis.

Due to the large number of surveys in the CIR program, for clearance purposes, the CIR surveys are divided into “waves.” There are three waves that include the mandatory and voluntary surveys. Mandatory and voluntary surveys are divided into separate clearance requests, making six separate clearances. We are now combining the mandatory and voluntary surveys from each wave into one clearance request, reducing the total number of clearance requests from six to three. Therefore, we are incorporating the burden hours currently contained in 0607-0776 into this request and discontinuing that clearance.

Also in this request, we are changing the reporting status of the following voluntary annual surveys to mandatory since they provide detailed commodity data for the 2002 Economic Census. They are MA311D, “Confectionery”, MA333N, “Fluid Power Products”, and MA335L, “Electric Lighting Fixtures”. We are moving the following surveys from another wave into this wave because of changes in survey content. They are M311H, “Animal & Vegetable Fats and Oil (Warehouse Stocks)”, M311L, “Fats and Oils (Rendered)”, M311M, “Animal & Vegetable Fats and Oil (Consumption and Stocks)”, M311N, “Animal & Vegetable Fats and Oil (Production, Consumption, and Stocks)”, and MA334R, “Computers and Office and Accounting Machines”. Due to a lack of funding, we are discontinuing MA333J, “Selected Pollution Control Equipment” and MA333U, “Coin-Operated Vending Machines.” More details concerning these changes are included in Question 15.

Affected Public: Businesses or other for-profit.

Frequency: Monthly, quarterly, and annually.

Respondent's Obligation: Monthly and Quarterly collections are typically voluntary; Annual collections (including counterpart collections) are mandatory.

Legal Authority: Title 13 U.S.C., sections 61, 81, 131, 182, 224, and 225.

OMB Desk Officer: Susan Schechter, (202) 395-5103.

Copies of the above information collection proposal can be obtained by calling or writing Madeleine Clayton, Departmental Paperwork Clearance Officer, (202) 482-3129, Department of Commerce, room 6608, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: July 11, 2202.
Madeleine Clayton,
Departmental Paperwork Clearance Officer, Office of the Chief Information Officer.

[FR Doc. 02-17896 Filed 7-15-02; 8:45 am]

BILLING CODE 3510-07-P